DEPARTMENT OF ENERGY

Federal Energy Regulatory Commission

[Project No. 15003-001]

New Hampshire Renewable Resources, LLC; Notice Soliciting Scoping Comments

Take notice that the following hydroelectric application has been filed with the Commission and is available for public inspection.

a. Type of Application: Subsequent Minor License.

b. Project No.: 15003-001.

c. Date Filed: February 8, 2021.

d. Applicant: New Hampshire Renewable Resources, LLC (New Hampshire Renewable).

e. Name of Project: Sugar River II Hydroelectric Project (project).

f. Location: On the Sugar River in Sullivan County, New Hampshire. The project does not occupy any federal land.

g. Filed Pursuant to: Federal Power Act, 16 U.S.C. 791(a)-825(r).

h. Applicant Contact: Mr. Paul V. Nolan, New Hampshire Renewable Resources, LLC, 5515 North 17th Street, Arlington, VA 22205; Phone at (703) 534-5509, or email at pvnpvndiver@gmail.com.

i. FERC Contact: Michael Watts at (202) 502-6123, or michael.watts@ferc.gov.

j. The current license for the Sugar River II Hydroelectric Project is held by Sugar River Hydro II, LLC (Sugar River Hydro) under Project No. 10934. On April 30, 2019, Sugar River Hydro filed a letter stating that it did not intend to file an application for a subsequent license. In response to a solicitation notice issued by the Commission on May 8, 2019, New Hampshire Renewable filed a pre-application document and notice of intent to file an application for the project. Commission staff assigned Project No. 15003 for the licensing proceeding initiated by New Hampshire Renewable's filing.

k. Deadline for filing scoping comments: September 13, 2021.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Sugar River II Hydroelectric Project (P-15003-001).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

l. The application is not ready for environmental analysis at this time.

m. The existing Sugar River II Hydroelectric Project consists of: (1) A 113.5-foot-long, 10-foot-high reinforced concrete dam that includes the following sections: (a) A 35-foot-long left abutment section with a cut-off wall; (b) a 42.5-foot-long spillway section with a crest elevation of 822 feet National Geodetic Vertical Datum 1929 (NGVD 29) that contains: (i) Two 11.5-foot-wide, 10-foot-high stanchion bays equipped with wooden stop logs; (ii) a 13-foot-wide, 10-foot-high hydraulically-operated steel slide gate; and (iii) a 3-foot-wide sluiceway; and (c) a 36-foot-long right abutment section with a cut-off wall; (2) a 1.4-acre impoundment with a storage capacity of 11 acre-feet at an elevation of 822 feet NGVD 29; (3) a 14-foot-wide, 12-foot-high intake structure adjacent to the right abutment equipped with a trashrack with 1-inch clear bar spacing; (4) a 650-foot-long buried penstock that includes a 400-foot-long, 7-foot-diameter steel section and a 250-foot-long, 7-foot-diameter concrete section; (5) a 35-foot-long, 27-foot-wide concrete and brick masonry powerhouse containing a single 200-kilowatt Francis-type turbine-generator unit; (6) a 75-foot-long, 4.16-kilovolt overhead transmission line and a transformer that connects the project to the local utility distribution system; and (7) appurtenant facilities.

Downstream fish passage facilities include the 3-foot-wide sluiceway in the dam spillway and a 3-foot-deep plunge pool located downstream of the stanchion bays. The project also includes an existing parking area on the north bank of the project's impoundment.

Article 402 of the current license requires the licensee to operate the project in an instantaneous run-of-river mode. The project is operated in a run-of-river mode by manually raising and lowering the spillway slide gate, and removing/adding stop logs to the stanchion bays to pass flows and maintain a constant impoundment water surface elevation of 822 feet NGVD 29. The project creates an approximately 400-foot-long bypassed reach of the Sugar River.

Article 403 of the current license, as amended on June 27, 1996, requires a minimum flow release to the bypassed reach of: (1) 15 cubic feet per second (cfs) or inflow, whichever is less, through the downstream fishway from June 16 through March 31 to protect aquatic resources and water quality in the bypassed reach; and (2) 20 cfs from April 1 through June 15, during the downstream migration season for Atlantic Salmon smolts. The average annual energy production of the project from 2010 to 2015 was 650.44 MWh.

New Hampshire Renewable proposes to: (1) Continue to operate the project in an instantaneous run-of-river mode, such that project outflow approximates inflow; (2) release a year-round minimum flow of 15 cfs; (3) install an automation system to operate the project in a run-of-river mode; and (4) consult with the New Hampshire State Historic Preservation Officer before beginning any land-disturbing activities or alterations to known historic structures within the project boundary.

n. In addition to publishing the full text of this document in the Federal Register, the Commission provides all interested persons an opportunity to view and/or print the contents via the internet through the Commission's Home Page (http://www.ferc.gov) using the “eLibrary” link. Enter the docket number excluding the last three digits in the docket number field to access the document. For assistance, contact FERC at FERCOnlineSupport@ferc.gov or call toll-free, (866) 208-3676 or TYY, (202) 502-8659.

o. You may also register online at https://ferconline.ferc.gov/FERCOnline.aspx to be notified via email of new filings and issuances related to this or other pending projects. For assistance, contact FERC Online Support.

p. Scoping Process

Commission staff will prepare either an environmental assessment (EA) or an Environmental Impact Statement (EIS) that describes and evaluates the probable effects, if any, of the licensee's proposed action and alternatives. The EA or EIS will consider environmental impacts and reasonable alternatives to the proposed action. The Commission's scoping process will help determine the required level of analysis and satisfy the NEPA scoping requirements, irrespective of whether the Commission prepares an EA or an EIS. At this time, we do not anticipate holding on-site scoping meetings. Instead, we are soliciting written comments and suggestions on the preliminary list of issues and alternatives to be addressed in the NEPA document, as described in scoping document 1 (SD1), issued August 13, 2021.

Copies of the SD1 outlining the subject areas to be addressed in the NEPA document were distributed to the parties on the Commission's mailing list and the applicant's distribution list. Copies of the SD1 may be viewed on the web at http://www.ferc.gov using the “eLibrary” link. Enter the docket number excluding the last three digits in the docket number field to access the document. For assistance, call 1-866-208-3676 or for TTY, (202) 502-8659.

Dated: August 13, 2021.
Kimberly D. Bose,
Secretary.

[FR Doc. 2021-17783 Filed 8-18-21; 8:45 am]

BILLING CODE 6717-01-P